GENERAL SERVICES ADMINISTRATION

[Notice-MA-2021-08; Docket No. 2021-0002; Sequence No. 33]

Relocation Allowances—Extended Waiver of Certain Federal Travel Regulation (FTR) Provisions During the COVID-19 Pandemic

AGENCY: Office of Government-wide Policy (OGP), General Services Administration (GSA).

ACTION: Notice of GSA Bulletin FTR 22-04, extended waiver of certain federal travel regulation (FTR) provisions during the Coronavirus disease 2019 (COVID-19) pandemic.

SUMMARY: This GSA Bulletin FTR 22-04 informs agencies that certain provisions of the FTR governing official relocation travel and renewal agreement travel (RAT) may continue to be temporarily waived for the period of time stated in the bulletin. This bulletin also rescinds an expiring GSA bulletin pertaining to relocation allowances during the pandemic and re-establishes information therein via this new bulletin.

DATES: Applicability Date: This notice is retroactively effective for official relocation travel performed after March 13, 2019, one year prior to the date of the Presidential national emergency proclamation concerning COVID-19.

FOR FURTHER INFORMATION CONTACT: Mr. Rick Miller, Senior Policy Analyst, Office of Government-wide Policy, Office of Asset and Transportation Management, at 202-501-3822, or travelpolicy@gsa.gov. Please cite Notice of GSA Bulletin FTR 22-04.

SUPPLEMENTARY INFORMATION: Background: Federal agencies authorize relocation entitlements to those individuals listed at FTR § 302-1.1 and those assigned under the Government Employees Training Act (GETA) (5 U.S.C. chapter 41). Since the Presidential national emergency proclamation issued March 13, 2020 concerning COVID-19, the pandemic has resulted in various travel-related disruptions to relocating employees. Accordingly, GSA issued Bulletin FTR 21-04 (86 FR 14326 March 15, 2021)(which rescinded and replaced related GSA Bulletins FTR 20-06 (85 FR 23029 April 24, 2020) and FTR 21-02 (85 FR 59311 September 21, 2020)), to allow agencies to determine whether to implement waivers of time limits established by the FTR for completion of all aspects of relocation, temporary storage of household goods (HHG) shipments, house hunting trips (HHT), and time remaining in a second tour of duty upon return from renewal agreement travel (RAT). GSA Bulletin FTR 21-04 and the waiver provisions therein is set to expire on December 31, 2021.

As COVID-19 has continued to produce uncertainty and create difficulties for relocating individuals, GSA is extending certain FTR waivers by rescinding GSA Bulletin FTR 21-04 and re-establishing the information therein by issuance of this new GSA Bulletin FTR 22-04 with a later expiration date. GSA Bulletins FTR 20-06 and FTR 21-02 remain rescinded. The new GSA Bulletin FTR 22-04 can be viewed at https://www.gsa.gov/ftrbulletins.

Dated: December 21, 2021.
Krystal J. Brumfield,
Associate Administrator, Office of Government-wide Policy.

[FR Doc. 2021-28044 Filed 12-23-21; 8:45 am]

BILLING CODE P